DEPARTMENT OF AGRICULTURE

Forest Service

Helena-Lewis and Clark National Forest; Montana; Stonewall Vegetation Project

AGENCY: Forest Service, USDA.

ACTION: Notice of intent to prepare a Supplemental Environmental Impact Statement.

SUMMARY: The Helena-Lewis and Clark National Forest, Lincoln Ranger District, Montana, intends to prepare a Supplemental Environmental Impact Statement (SEIS) for the Stonewall Vegetation Project. The project area was impacted by wildfire in 2017 and a preliminary analysis of those effects has shown that supplemental analysis should be completed to assess the change in conditions resulting from the Park Creek Fire.

DATES: The Draft SEIS is expected May 2018, and the Final SEIS is expected August 2018.

FOR FURTHER INFORMATION CONTACT: Laura Conway, Team Leader, (406) 791-7739; lconway@fs.fed.us. Additional information concerning this project may be obtained at https://www.fs.usda.gov/helena.

Individuals who use telecommunication devices for the deaf (TDD) may call the Federal Information Relay Service (FIRS) at 1-800-877-8339 between 8 a.m. and 8 p.m., Eastern Time, Monday through Friday.

SUPPLEMENTARY INFORMATION: The Stonewall Vegetation Project Record of Decision (ROD) was signed by Helena-Lewis and Clark Forest Supervisor William Avey on August 25, 2016 and with it, the Final Environmental Impact Statement (FEIS) was released to the public. The project was preliminarily enjoined by a court order and therefore implementation had not begun.

In July 2017, two wildfires ignited in the project area, eventually burning 18,000 acres, 13,390 of which were in the Stonewall project area. The fire burned all or portions of 16 treatment units, totaling 2,719 acres. Treatment units possessing viable harvest potential will be carried forward for analysis in this SEIS. The SEIS will supplement the Stonewall Vegetation Project FEIS by providing an updated analysis of environmental effects in light of the acres impacted by the Park Fire in July and August of 2017. Only those resources measurably affected by the changed baseline will be analyzed in the SEIS. These resources include soils, hydrology, fuels, vegetation, economics, fisheries and wildlife habitat.

Purpose and Need for Action

Wildfire affected the project area one year after environmental analysis and before implementation. The original purpose, to improve the mix of vegetation and structure across the landscape to make it more resilient to wildfire, remains on those acres not impacted by the 2017 Park Fire. Fuel reduction treatments can influence fire behavior to enhance community protection and allow fire to function in its natural role.

Proposed Action

The proposed action consists of approximately 1890 acres of treatments included in the selected alternative in the ROD. These treatments include 550 acres of pre-commercial thinning, 19 acres of improvement cuts, 345 acres of shelterwood cuts, 65 acres of clearcut, 25 acres of sanitation cuts, 300 acres of low intensity prescribed fire, and 555 acres of whitebark pine restoration. Less than one mile of temporary road is proposed, and this would be obliterated after implementation. Maintenance would occur on up to 31 miles of road. The proposed action includes the site-specific forest plan amendment for elk habitat as described in the 2016 ROD.

Responsible Official

Helena-Lewis and Clark Forest Supervisor.

Nature of Decision To Be Made

The decision will authorize vegetation treatments remaining under the Selected Alternative based on the updated analysis.

Preliminary Issues

Preliminary issues identified include lynx habitat, elk security, hiding cover, and thermal cover.

Scoping Process

A Notice of Intent (NOI) published on January 13, 2010 initiated the scoping process for the Stonewall Vegetation Project. The start of a 30-day scoping period began on January 16, 2010. In accordance with 40 CFR 1502.9(c)(4), no scoping will be conducted for this SEIS.

The Draft SEIS will be available for public comment as required by 40 CFR 1503.1. The Draft SEIS will be announced for public review and comment in Federal Register, on the Forest's website https://www.fs.usda.gov/projects/helena/landmanagement/projects and in the Helena Independent Record. The Helena-Lewis and Clark Forest Supervisor will issue a draft modified or new ROD after evalutating the SEIS and public comments. An objection period for the decision will be provided, consistent with 36 CFR part 218.

Authority

This NOI is being published pursuant to regulation (40 CFR 1508.22) implementing the procedural provision of the National Environmental Policy Act fof 1969, as amended (42 U.S.C. 4321 et seq.).

Dated: February 22, 2018.
Glenn P. Casamassa,
Associate Deputy Chief, National Forest System.

[FR Doc. 2018-05320 Filed 3-15-18; 8:45 am]

BILLING CODE 3411-15-P